DEPARTMENT OF AGRICULTURE

Animal and Plant Health Inspection Service

9 CFR Part 2

[Docket No. 97-033-1]

Animal Welfare; Medical Records

Correction

In proposed rule document 03-8928 beginning on page 17752 in the issue of Friday, April 11, 2003, make the following correction:

On page 17754, in the second column, in the sixth line, “691, 975” should read, “691.975.”

[FR Doc. C3-8928 Filed 5-5-03; 8:45 am]

BILLING CODE 1505-01-D

DEPARTMENT OF HEALTH AND HUMAN SERVICES

45 CFR Part 32

RIN 0990-AA05

Administrative Wage Garnishment

Correction

In rule document 03-7394 beginning on page 15092 in the issue of March 28, 2003, make the following correction:

§ 32.8 [Corrected]

On page 15096, in the first column, in §32.8, in the sixth line, paragraph “(1)” should read paragraph “(c)(1)”.

[FR Doc. C3-7394 Filed 5-5-03; 8:45 am]

BILLING CODE 1505-01-D

DEPARTMENT OF THE TREASURY

Customs Service

19 CFR Part 178

[T.D. 03-14]

RIN 1515-AC58

Deferral of Duty on Large Yachts Imported for Sale

Correction

In rule document 03-6759 beginning on page 13623 in the issue of Thursday, March 20, 2003, make the following correction:

§178.2 [Corrected]

On page 13626, inÿ7E the second column, in §178.2, in the table, in the first column, “§ 4.94” should read, “§4.94a”.

[FR Doc. C3-6759 Filed 5-5-03; 8:45 am]

BILLING CODE 1505-01-D